DEPARTMENT OF STATE

[Public Notice: 12210]

Notice of Release of the Department of State's FY 2021 Service Contract Inventory

SUMMARY: Acting in compliance with section 743 of Division C of the Consolidated Appropriations Act of 2010, the Department of State is publishing this notice to advise the public of the availability of the FY 2021 Service Contract Inventory. The FY 2021 Service Contract Inventory includes the FY 2021 Planned Analysis, and the FY 2020 Meaningful Analysis. The inventory was developed in accordance with guidance issued by the Office of Management and Budget (OMB), Office of Federal Procurement Policy (OFPP). The Department of State has posted its FY 2021 Service Contract Inventory at the following link: https://csm.state.gov/index2.html.

DATES: The inventory is available on the Department's website as of September 29, 2023.

FOR FURTHER INFORMATION CONTACT: Marlon D. Henry, Management and Program Analyst, A/EX/CSM, 771-204-7977, HenryMD@state.gov

Marlon D. Henry,
Management and Program Analyst, Collaborative Strategy and Management Division, Department of State.

[FR Doc. 2023-22072 Filed 10-3-23; 8:45 am]

BILLING CODE 4710-24-P